DEPARTMENT OF JUSTICE

Bureau of Justice Statistics

[OJP(BJS)-1265]

Statistical Methodologies for Analysis of Disproportionate Minority Confinement

AGENCY: Office of Justice Programs, Bureau of Justice Statistics (BJS), Justice.

ACTION: Notice of solicitation.

SUMMARY: The purpose of this notice is to announce a solicitation for a methodological study that would examine how juvenile records can be used to better understand racial disparities in arrests and confinement of minority juveniles and the impact of such disparities on subsequent processing of the same people if they are arrested as adults.

DATES: Proposals are due by 5 p.m., ET on May 30, 2000.

ADDRESSES: Proposals should be mailed to: Timothy C. Hart, Bureau of Justice Statistics, 810 7th Street NW, Washington, DC 20531, (202) 307-6166. [This is not a toll free number].

FOR FURTHER INFORMATION CONTACT: Timothy C. Hart, Bureau of Justice Statistics, 810 7th Street NW, Washington, DC 20531, (202) 307-6166. [This is not a toll free number].

SUPPLEMENTARY INFORMATION:

Program Goals

The major purpose of this award is to support a methodological study of the use of records in investigating racial disparities in arrests and confinement of minority juveniles, and the impact of disparate treatment within the juvenile justice system on subsequent processing of the same individuals if and when they become exposed to the adult criminal justice system.

Background

For over a decade, the Juvenile Justice and Delinquency Prevention (JJDP) Act has required States to determine whether the proportion of juvenile minorities in confinement is greater than the proportion of juvenile minorities in the overall population. Furthermore, the “disproportionate minority confinement” requirement of the Act forces those States that do find disparate representation among juvenile minorities to advance efforts to reduce it (see “Juvenile Offenders and Victims: 1999 National Report” by Howard N. Snyder and Melissa Sickmund.). Since time-series data have been collected by States under OJJDP's Disproportionate Minority Confinement (DMC) Program, and research expertise in using these data has developed in the States, the Bureau of Justice Statistics (BJS) would like to capitalize on the data and expertise as a basis from which to better understand the complex factors that contribute to minority over-representation in the juvenile justice system, and how disparate treatment of minorities within the juvenile justice system can affect subsequent outcomes, net of legally-relevant factors, of the same people if they are arrested as adults. Additional information about OJJDP's DMC Program can be found at http://www.ojjdp.ncjrs.org/pubs/correctionsum.html. While studies which evaluate racial disparities in various stages of juvenile justice processing are widespread, few studies use and document rigorous statistical methodologies (see “Minorities and the Juvenile Justice System, Research Summary” by Carl E. Pope and William Feyerherm). Copies of this report can be downloaded from the OJJDP web site at http://www.ncjrs.org/pdffiles/minor.pdf. Moreover, little or no research examines the extent to which racial disparities in handling by the juvenile justice system may be identified and tested as an explanatory factor for disparate subsequent treatment of adults involved in criminal court processing. Thus, research based on this award should seek to design a methodology which could be used to answer the question of whether a youth's juvenile record acquired through disparate treatment has a carry-over effect on subsequent adult level encounters with the criminal justice system.

Scope of Work

The objective of the proposed project is to develop, test, and document statistical methodologies which are appropriate for examining the nature and extent of racial disparities in arrests and confinement of minority juveniles and for better understanding the impact of identifiable biases within the juvenile justice system on adults criminal court processing, recognizing the numerous interrelated decision points within the juvenile justice process. The methods must be tested using an actual data set, but it is not the intent of this solicitation to fund extensive data-collection activities. Analyses which demonstrate the conceptual capabilities of models or forecasts may be based on invented or simulated data but may not comprise the entire project.

Specifically, the recipient of funds will:

1. Identify the subgroups of the population, defined by race, ethnicity or other factor, that will be distinguished in the analysis, and specify definitions of the subgroups. Consideration to OMB's revised Statistical Policy Directive No. 15, Standards for Maintaining, Collecting, and Presenting Federal Data on Race and Ethnicity, should be given (see http://www.whitehouse.gov/OMB/fedreg/ombdir15.html).

2. Identify the stages of processing within the juvenile or adult justice system that will be incorporated in the analysis, and identify those factors which cannot be incorporated or measured.

3. Specify definitions and criteria that will be used in the study to quantify disparities among the studied subgroups and to distinguish between racial disparities and other factors explaining the disparities.

4. Specify a replicable statistical model to be used, conceptually and in the form of algorithms or software.

5. Identify and acquire one or more data sets suitable for the analysis. Demonstrate a knowledge of the data set(s) by defining and constructing relevant variables. If necessary, clean or augment the data so they are suitable for the study as designed, test the statistical model against the data set, and demonstrate the capability of the model to distinguish whether the data provide an indication of racial disparities. If the study uses only data about juvenile processing, it must discuss the relevance of the data and variable definitions to subsequent processing of juveniles who are arrested when they become adults.

6. Prepare the data and documentation in a format suitable for archiving without individual identifiers.

7. Prepare for public dissemination, a written report that describes in detail the issues, statistical methods, analysis, and conclusions of the study.

Appropriation and Assistance Program

Assistance will be made in the form of a cooperative agreement or interagency agreement which may be in the form of a BJS Fellowship. BJS Fellows are expected to spend a substantial portion of their research time at BJS's offices in Washington, DC, where they are provided with work space and necessary computing facilities. Further information about the BJS Fellowship program is available on the BJS web site at http://www.ojp.usdoj.gov/bjs/

Application and Award Process

An original and three (3) copies of a full proposal must be submitted on SF-424. Proposals must be accompanied by OJP Form 4000/3, 4061/6 and SF-LLL. In addition, fund recipients are required to comply with regulations designed to protect human subjects and ensure the confidentiality of data. In accordance with 28 CFR Part 22, a Privacy Certificate must be submitted to BJS. Furthermore, a Screening Sheet for Protection of Human Subjects must be completed prior to the award being issued. Copies of required forms, including the Screening Sheet for Protection of Human Subjects, can be obtained by contacting Timothy C. Hart, Bureau of Justice Statistics, 810 7th Street NW, Washington, D.C. 20531, (202) 307-6166.

Proposals must include both narrative descriptions and a detailed budget. The narrative shall describe activities as discussed in the previous sections. The budget shall contain detailed costs of personnel, travel, equipment, supplies, and other expenses.

Proposals should describe in appropriate detail the efforts to be undertaken in furtherance of each of the activities described in the Scope of Work. The application must demonstrate:

• A familiarity with relevant research on racial disparity, with particular reference to the technical difficulties of isolating the effect of the race variable.

• A conceptual understanding of the limitations of the past research and the kind of improvements that would be helpful in analysis of racial disparities.

• A familiarity with the stages in juvenile justice processing that are the focus of data collection in the DMC initiative.

• The feasibility of acquiring and analyzing a relevant data set or data sets, including any issues of confidentiality of the data and/or protection of the human subjects of research.

• The approximate numbers or proportions of individuals represented in the data set who belong to the subgroups being studied.

• A familiarity with any analyses that have already been conducted or are ongoing with the selected data set.

Applicants are encouraged to define the terms “racial disparity” or “racial discrimination” as they consider appropriate to the context. They may examine any subgroups defined by race, ethnicity, country of origin, or other factor which is believed to be a source of discrimination, and conceptual advances in defining “discrimination” are welcome.

Applications will be evaluated on the overall extent to which they respond to the goals of improving the methodological research in the area of disproportionate minority representation in the juvenile justice system; the quality and feasibility of the proposed design; their expertise in relation to the proposed activities; and the reasonableness of estimated costs for the total project and for individual cost categories.

Proposals should be mailed to: Timothy C. Hart, Bureau of Justice Statistics, 810 7th Street NW, Washington, D.C. 20531, (202) 307-6166.

Timing

This award will be made for a period of 12 months. Costs are estimated at not to exceed $200,000 for the 12-month period. Each element of the Scope of Work must be successfully completed within 12-months of this award.

Statutory Authority

The grant and/or Fellowship awarded through this solicitation will be funded by the Bureau of Justice Statistics consistent with its mandate under 42 U.S.C. § 3732(c) (Sec. 302.).

Eligibility Requirements

BJS especially invites applications from researchers who have been active at the national or state level in OJJDP's Disproportionate Minority Confinement (DMC) initiative. However, the solicitation is open to any applicant who can demonstrate statistical expertise related to improving current research focusing on disproportionate minority representation in the juvenile justice system. Individuals currently working for a State agency may be eligible for this award through a cooperative agreement with their agency or an interagency agreement.

Jan M. Chaiken,
Director, Bureau of Justice Statistics.

[FR Doc. 00-7688 Filed 3-28-00; 8:45 am]

BILLING CODE 4410-18-P